DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

PRT-034780

Applicant: University of Georgia/Institute of Ecology, Athens, GA.

The applicant requests a permit to import biological samples from bali starling (Leucopsar rothschildi) born in captivity at Durrell Wildlife Conservation Trust, Jersey, Channel Islands for the purpose of enhancement of the species through scientific research. This notification covers activities conducted by the applicant over a five year period.

PRT-035097

Applicant: Saint Louis Zoo, St. Louis, MO.

The applicant requests a permit to import biological samples from wild and captive born sportive lemur (Lepilemur mustelinus), wooly lemur (Avahi laniger), indri (Indri indri), diademed sifaka (Propithecus diadema diadema), black and white ruffed lemur (Varecia variegata variegata), aye aye (Daubentonia madagascariensis), brown mouse lemur (Microcebus rufus), white-fronted brown lemur (Eulemur fulvus albifrons), lesser bamboo lemur (Hapalemur griseus griseus), greater dwarf lemur (Cheirogealeus major) from Reserve Naturelle Integrale No.1, Parc Zoologique de Ivoloina, and Parc Botanique et Zoologique de Tsimbazaza in Madagascar for the purpose of enhancement of the survival of the species through scientific research. This notification covers activities conducted by the applicant over a five year period.

PRT-034309

Applicant: Rare Feline Breeding Center, Center Hill, FL.

The applicant requests a permit to export and re-import captive-born tigers (Panthera tigris) and progeny of the animals currently held by the applicant and any animals acquired in the United States by the applicant to/from worldwide locations to enhance the survival of the species through conservation education. This notification covers activities conducted by the applicant over a three year period.

Written data or comments should be submitted to the Director, U.S. Fish and Wildlife Service, Division of Management Authority, 4401 North Fairfax Drive, Room 700, Arlington, Virginia 22203 and must be received by the Director within 30 days of the date of this publication.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: October 27, 2000.
Charlie Chandler,
Chief, Branch of Permits, Division of Management Authority.

[FR Doc. 00-28086 Filed 11-01-00; 8:45 am]

BILLING CODE 4310-55-P